SECURITIES AND EXCHANGE COMMISSION

[Release No. 34-80505; File No. SR-BatsBZX-2017-14]

Self-Regulatory Organizations; Bats BZX Exchange, Inc.; Notice of Designation of a Longer Period for Commission Action on a Proposed Rule Change, as Modified by Amendment Nos. 3 and 4, To List and Trade Shares of the Amplify YieldShares Oil Hedged MLP Fund, a Series of the Amplify ETF Trust, Under BZX Rule 14.11(i), Managed Fund Shares

April 21, 2017.

On February 17, 2017, Bats BZX Exchange, Inc. (“BZX”) filed with the Securities and Exchange Commission (“Commission”), pursuant to Section 19(b)(1) of the Securities Exchange Act of 1934 (“Act”) ¹ and Rule 19b-4 thereunder,² a proposed rule change to list and trade shares of the Amplify YieldShares Oil Hedged MLP Fund, a series of the Amplify ETF Trust. The proposed rule change was published for comment in the Federal Register on March 7, 2017.³ On March 30, 2017, the Exchange filed Amendment No. 2 to the proposed rule change, and on April 7, 2017, the Exchange filed Amendment No. 3 to the proposed rule change.⁴ The Exchange filed Amendment No. 4 to the proposed rule change on April 19, 2017.⁵ The Commission has received no comment letters on the proposed rule change.

¹ 15 U.S.C. 78s(b)(1).

² 17 CFR 240.19b-4.

³ See Securities Exchange Act Release No. 80136 (March 1, 2017), 82 FR 12860.

⁴ The Exchange filed and withdrew Amendment No. 1 on March 30, 2017 and subsequently filed Amendment No. 2, which replaced the original filing in its entirety. Amendment No. 3, which replaced the original filing in its entirety, is available at https://www.sec.gov/comments/sr-batsbzx-2017-14/batsbzx201714-1692102-149689.pdf. Because Amendment No. 3 does not materially alter the substance of the proposed rule change or raise unique or novel regulatory issues, it is not subject to notice and comment.

⁵ Amendment No. 4, which partially amends the proposed rule change, as modified by Amendment No. 3, is available at https://www.sec.gov/comments/sr-batsbzx-2017-14/batsbzx201714-1711101-150239.pdf. Because Amendment No. 4 does not materially alter the substance of the proposed rule change or raise unique or novel regulatory issues, it is not subject to notice and comment.

Section 19(b)(2) of the Act ⁶ provides that within 45 days of the publication of notice of the filing of a proposed rule change, or within such longer period up to 90 days as the Commission may designate if it finds such longer period to be appropriate and publishes its reasons for so finding, or as to which the self-regulatory organization consents, the Commission shall either approve the proposed rule change, disapprove the proposed rule change, or institute proceedings to determine whether the proposed rule change should be disapproved. The 45th day after publication of the notice for this proposed rule change is April 21, 2017. The Commission is extending this 45-day time period.

⁶ 15 U.S.C. 78s(b)(2).

The Commission finds it appropriate to designate a longer period within which to take action on the proposed rule change so that it has sufficient time to consider this proposed rule change, as modified by Amendment Nos. 3 and 4. Accordingly, the Commission, pursuant to Section 19(b)(2) of the Act,⁷ designates June 5, 2017, as the date by which the Commission shall either approve or disapprove, or institute proceedings to determine whether to disapprove, the proposed rule change (File No. SR-BatsBZX-2017-14), as modified by Amendment Nos. 3 and 4.

⁷ Id.

For the Commission, by the Division of Trading and Markets, pursuant to delegated authority.⁸
⁸ 17 CFR 200.30-3(a)(31).
Eduardo A. Aleman,
Assistant Secretary.

[FR Doc. 2017-08465 Filed 4-26-17; 8:45 am]

BILLING CODE 8011-01-P